DEPARTMENT OF JUSTICE

Notice of Lodging of Consent Decree Pursuant to the Comprehensive Environmental Response, Compensation, and Liability Act

In accordance with Departmental policy, 28 CFR 50.7, and 42 U.S.C. 9622(d), notice is hereby given that a proposed consent decree in United States v. Agere Systems, Inc., et al., Civil Action No. AMD-07-155, was lodged with the United States Court for the District of Maryland on January 19, 2007.

In a complaint filed with the consent decree, the United States seeks injunctive relief and reimbursement and a declaratory judgment for costs incurred and to be incurred in connection with the Spectron, Inc. Superfund Site (“Site”), located in Elkton, Maryland, from 98 settling defendants pursuant to Sections 106 and 107 of the Comprehensive Environmental Response, Compensation, and Liability Act (“CERCLA”) 42 U.S.C. 9606, 9607. These 98 settling defendants agree to finance and perform the surface remedy selected for the Site and to pay $507,300 to natural resource trustees to resolve the federal and state natural resource damage claims relating to the Site. In addition, settling defendants agree to finance and perform a future, yet unknown, groundwater remedy, provided that the cost estimate of such OU2 selected remedy does not exceed $10 million.

The Department of Justice will receive, for a period of thirty (30) days from the date of this publication, comments relating to the proposed consent decree. Comments should be addressed to the Assistant Attorney General for the Environment andNatural Resources Division, P.O. Box 7611, Department of Justice, Washington, DC 20044-7611, and should refer to United States v. Agere Systems, Inc., et al., DOJ Ref. # 90-11-2-482/3.

The proposed consent decree may be examined at the office of the United States Attorney, District of Maryland, 36 S. Charles Street, Fourth Floor, Baltimore, MD 21201, and at U.S. EPA Region III, 1650 Arch St., Philadelphia, PA 19103. A copy of the consent decree may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree without signature pages and appendices, please enclose a check in the amount of $28.25 (25 cents per page reproduction cost) payable to the U.S. Treasury. To request a complete copy of the consent decree with appendices, please enclose a check in the amount of $62.50 (25 cents per page reproduction cost) payable to the U.S. Treasury.

Robert Brook,
Assistant Section Chief, Environmental Enforcement Section, Environment and Natural Resources Division.

[FR Doc. 07-425 Filed 1-31-07; 8:45 am]

BILLING CODE 4410-15-M